DEPARTMENT OF THE INTERIOR

Bureau of Land Management

[17X.LLAK941000-L14100000-ET0000; F-025943]

Public Land Order No. 7863; Partial Revocation of Public Land Order No. 3708; Alaska

AGENCY: Bureau of Land Management, Interior.

ACTION: Public Land Order.

SUMMARY: This order revokes Public Land Order No. 3708, insofar as it affects 709.17 acres of public lands near Fairbanks, Alaska, which reserved lands for use by the National Oceanic and Atmospheric Administration (NOAA). The NOAA has determined the lands are no longer needed for the purpose for which they were withdrawn.

DATES: This Public Land Order is effective on October 24, 2017.

FOR FURTHER INFORMATION CONTACT: David V. Mushovic, BLM Alaska State Office, 222 West Seventh Avenue, Mailstop #13, Anchorage, Alaska 99513-7504, 907-271-4682, or by email at dmushovi@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The NOAA has determined that 709.17 acres of land withdrawn by Public Land Order No. 3708 is excess to its needs and has requested a partial revocation of the withdrawal. Upon revocation, the selection applications made by the State of Alaska under the Alaska Statehood Act and the Alaska National Interest Lands Conservation Act become effective without further action by the State, if such land is otherwise available. Lands selected by, but not conveyed to, the State are subject to the terms and conditions of Public Land Order No. 5186 (37 FR 5589, March 16, 1972), as amended, and any other withdrawal, application, or segregation of record. The partial revocation of the withdrawal will not result in a significant restriction on subsistence uses while the lands remain in Federal ownership. Any significant restriction on subsistence uses, due to subsequent conveyance of the lands to the State of Alaska, would be unavoidable under Section 810(c) of the Alaska National Interest Lands Conservation Act because the lands would be conveyed pursuant to the Alaska Statehood Act.

Order

By virtue of the authority vested in the Secretary of the Interior by Section 204 of the Federal Land Policy and Management Act of 1976, 43 U.S.C. 1714, it is ordered as follows:

1. Public Land Order No. 3708 (30 FR 8753 (1965)), as modified by Public Land Order No. 6709 (54 FR 6919 (1989)), partially revoked by Public Land Order No. 7682 (72 FR 71940 (2007)), extended by Public Land Order No. 7710 (73 FR 35708 (2008)), and partially revoked by Public Land Order No. 7763 (76 FR 23334 (2011)), which withdrew public land from all forms of appropriation under the public land laws, including the mining laws, but not from leasing under the mineral leasing laws, is hereby revoked as to the following described land:

Fairbanks Meridian, Alaska

A parcel of land situated within sections 7, 8, 17, 18, 19 and 20, Township 2 North, Range 2 East, being a portion of that parcel of land described in Public Land Order Nos. 3708 and 6709, and the plat for the Record of Survey, Parcel G, surveyed by Jake Gerondale, Registered Professional Land Surveyor No. LS-11758, for Lounsbury and Associates, filed in the Fairbanks recording district as plat No. 2017-54 on July 21, 2017, and being more particularly described as follows (all bearings are true mean bearings): (Record bearings and distances from the Bureau of Land Management plat of survey for Township 2 North, Range 2 East, Fairbanks Meridian, Alaska, officially filed on July 28, 1988, are shown in parentheses.)

BEGINNING at the southwest 1/16 section corner of section 8, marked with a 2½ inch diameter iron post, with brass cap marked SW 1/16 S8 1987;

THENCE, South 0°12′28″ East, on the north and south center line of the southwest 1/4 of section 8, a distance of 1,320.74 feet (South 0°10′ East, 20.01 chains) to the west 1/16 section corner of sections 8 and 17, marked with a 2½ inch iron post, with brass cap marked S8 W1/16 S17 1987, said corner being identical with the northwest corner of Public Land Order No. 7763;

THENCE, South 0°12′28″ East on the north and south center line of the northwest ¼ of section 17, identical with the westerly line of Public Land Order No. 7763, a distance of 330.00 feet, identical with the southwesterly corner of Public Land Order No. 7763;

THENCE, South 42°47′04″ East, on the southwesterly line of Public Land Order No. 7763, a distance of 1,950.25 feet to the north and south center line of section 17, identical with the most southerly corner of Public Land Order No. 7763;

THENCE, South 0°10′47″ East (South 0°10′ East), on the north and south center line of section 17, a distance of 3,517.92 feet to the ¼ section corner of sections 17 and 20, marked with a 2½ inch iron post, with brass cap marked T2N R2E S17 1/4 S20 1987;

THENCE, North 89°53′20″ East (North 89°55′ East), on the line between sections 17 and 20, a distance of 478.71 feet, identical with the northwest corner of Public Land Order No. 7682;

THENCE, South 3°22′04″ West, on the westerly line of Public Land Order No. 7682, a distance of 2,360.42 feet, identical with the southwesterly corner of Public Land Order No. 7682;

THENCE, South 40°05′00″ East, on the southerly line of Public Land Order No. 7682, a distance of 1,541.97 feet to the north and south center line of the southeast ¼ of section 20, identical with the most southerly corner of Public Land Order No. 7682;

THENCE, South 0°08′36″ East (South 0°09′ East), on the north and south center line of the southeast ¼ of section 20, a distance of 1,455.29 feet to line 1-2 of the Scheelite Load claim of Mineral Survey No. 2008, marked with a 2½ inch iron post, with brass cap marked E CC S20 E S MS2008 1987;

THENCE, South 72°19′41″ West on line 2-1 of said Scheelite Load claim of Mineral Survey No. 2008, a distance of 685.63 feet (South 72°22′ West, 10.39 chains) to corner No. 1, Scheelite Load claim of Mineral Survey No. 2008, marked with a ¾ inch aluminum rod, with aluminum cap marked T2N R2E C1 S MS2008 1987;

THENCE, North 55°58′55″ West; a distance of 231.00 feet;

THENCE, North 0°15′04″ East, a distance of 1,154.78 feet;

THENCE, South 89°36′39″ West, a distance of 1,740.61 feet;

THENCE, North 0°23′40″ West, a distance of 555.25 feet;

THENCE, South 89°36′14″ West, a distance of 627.91 feet;

THENCE, North 0°23′53″ West, a distance of 578.37 feet;

THENCE, South 89°35′55″ West, a distance of 1,119.46 feet;

THENCE, North 0°24′18″ West, a distance of 8,103.74 feet to the section line between sections 7 and 18;

THENCE, South 89°35′38″ West, on the line between sections 7 and 18, a distance of 292.78 feet;

THENCE, North 0°24′25″ West, a distance of 1,304.71 feet to the east and west center line of the southeast ¼ of section 7;

THENCE, South 89°54′39″ East (South 89°52′ East), on the east and west center line of the southeast ¼ of section 7, a distance of 694.20 feet to the S 1/16 section corner of sections 7 and 8;

THENCE, North 89°59′47″ East, on the east and west center line of the southwest ¼ of section 8, a distance of 1,319.11 feet (South 89°59′ East, 19.99 chains) to the southwest 1/16 section corner of section 8 and the POINT OF BEGINNING, containing 709.17 acres, more or less.

2. The State of Alaska applications for selection made under Section 6(a) of the Alaska Statehood Act of July 7, 1958, 48 U.S.C., note prec. 21, and under Section 906(e) of the Alaska National Interest Lands Conservation Act, 43 U.S.C. 1635(e), become effective without further action by the State upon publication of this Public Land Order in the Federal Register, if such land is otherwise available. Land selected by, but not conveyed to, the State will be subject to Public Land Order No. 5186 (37 FR 5589 (1972)), as amended, and any other withdrawal, application, or segregation of record.

Dated: October 17, 2017.
David L. Bernhardt,
Deputy Secretary of the Interior.

[FR Doc. 2017-22947 Filed 10-23-17; 8:45 am]

BILLING CODE 4310-JA-P